DEPARTMENT OF ENERGY

Federal Energy Regulatory Commission

[Project No. 14116-000; Project No. 14128-000]

Notice of Competing Preliminary Permit Applications Accepted for Filing and Soliciting Comments, Motions To Intervene, and Competing Applications

Keechelus Hydropower, LLC, Project No. 14116-000

Qualified Hydro 32, LLC, Project No. 14128-000

On March 21, 2011, the Keechelus Hydropower, LLC (Keechelus Hydropower), filed an application for a preliminary permit, pursuant to section 4(f) of the Federal Power Act (FPA), proposing to study the feasibility of the Keechelus Dam Hydroelectric Project (project) to be located on Keechelus Lake, Kittitas County, Washington. Another permit application for this same site was filed by Qualified Hydro 32, LLC (Qualified Hydro), on March 30, 2011. Both of the proposed projects would utilize the existing Keechelus Dam, which is owned by the U.S. Bureau of Reclamation. The sole purpose of a preliminary permit, if issued, is to grant the permit holder priority to file a license application during the permit term. A preliminary permit does not authorize the permit holder to perform any land-disturbing activities or otherwise enter upon lands or waters owned by others without the owners' express permission.

The proposed Keechelus Hydropower project would consist of the following: (1) A 36-inch-diameter, 620-foot-long steel-reinforced plastic pipe penstock; (2) a 40-foot-long, 30-foot-wide concrete powerhouse; (3) a single 500-kilowatt (kW) Francis turbine; (4) a 5,900-foot-long, 13.8-kilovolt (kV) underground cable connecting to an existing transmission line; and (5) appurtenant facilities. The estimated annual generation of the project would be 4 gigawatt-hours (GWh).

The proposed Qualified Hydro project would consist of the following: (1) A 14-foot-wide intake structure containing trash racks, an intake gate, and associated accessories adjacent to the existing intake; (2) a 750-foot-long, 6-foot-diameter buried steel penstock; (3) a 40-foot-long, 50-foot-wide reinforced concrete powerhouse containing a 2-megawatt (MW) Francis turbine; (4) a 40-foot-long, 40-foot-wide sub-station; (5) a 1.15-mile long, 34.5-69-kilovolt (kV) transmission line; and (6) appurtenant facilities. The estimated annual generation of the project would be 6.7 GWh.

Applicant Contact (Keechelus Hydropower): Mr. Carl Spetzler, CEO, Orenco Hydropower, Inc., 745 Emerson Street, Palo Alto, California 94301; phone: (650) 475-4467.

Applicant Contact (Qualified Hydro): Ms. Ramya Swaminathan, Free Flow Power Corporation, 239 Causeway Street, Suite 300, Boston, MA 02114; phone: (978) 226-1531.

FERC Contact: Kelly Wolcott, (202) 502-6480.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street, NE., Washington, DC 20426.

More information about these projects, including copies of the applications, can be viewed or printed on the “eLibrary” link of Commission's Web site at http://www.ferc.gov/docs-filing/elibrary.asp. Enter the docket numbers (P-14116-000 and P-14128-000) in the docket number field to access the documents. For assistance, contact FERC Online Support.

Dated: June 21, 2011.
Kimberly D. Bose,
Secretary.

[FR Doc. 2011-16177 Filed 6-27-11; 8:45 am]

BILLING CODE 6717-01-P